DEPARTMENT OF AGRICULTURE

Forest Service

Pike and San Isabel National Forest Cimarron and Comanche Grasslands, Colorado; Upper Arkansas Water Conservancy District Reservoir Analysis

AGENCY: Forest Service, USDA.

ACTION: Notice of Intent to prepare an Environmental Impact Statement.

SUMMARY: The USDA Forest Service (FS) and the Upper Arkansas Water Conservacy District (UAWCD) have agreed to work cooperatively for the creation of the necessary environmental analysis and associated documents for the purpose of potential expansion construction of the North Fork Reservoir Water storage facility, reconstruction of the Boss Lake Reservoir emergency spillway, and long term operations and maintenance of all three reservoirs operated by UAWCD (Boss Lake, O'Haver, and North Fork). The FS has determined that all three facilities should be analyzed under an “all-inclusive” Environmental Impact Statement (EIS) which addresses each facility individually.

The UAWCD has agreed to pay for all necessary NEPA analysis through a third party consultant working for the FS. The FS will oversee the final approval of:

1. The environmental firm awarded the contract to conduct the NEPA analysis.

2. The quality/thoroughness of the final environmental document.

3. Any future long-term Special Use Permit (naming UAWCD as the holder) covering the operational hydrology and maintenance needs of each individual water storage facility.

DATES: Comments concerning the scope of the analysis must be postmarked or received within 45 days from the date of publication of this notice in the Federal Register to ensure full consideration. The draft environmental impact statement is expected January 2008 and the final environmental impact statement is expected April 2008.

ADDRESSES: Send written comments to; USDA Forest Service, Salida Ranger District, ATTN: Mike Sugaski, 325 W. Rainbow Blvd., Salida, CO 81201.

Comments may be submitted electronically to musgaski@fs.fed.us. Comments may also be sent by fax to (719) 539-3593.

FOR FURTHER INFORMATION CONTACT: Mike Sugaski, Recreation Staff, Salida Ranger District at the address noted above or by calling (719) 539-3591.

SUPPLEMENTARY INFORMATION:

Purpose and Need for Action

The UAWCD has determined that there is a need to operate all three reservoirs to meet the user demands and a growing population. Also driving this project's Purpose and Need is the fact that each facility's term Special Use Permit (SUP) has expired. The FS feels that a thorough understanding of each facility's associated watershed and operational hydrology must be reached before term SUPs can be reissued to UAWCD. The Instream Flow Incremental Methodology (IFIM) will be used to assist in determining appropriate discharge volumes and flow regimes necessary for protection of terrestrial and aquatic life and maintain stream channel stability below each reservoir.

Proposed Action

UAWCD proposes to operate all three reservoirs to meet future water demands. They intend to analyze the feasibility of increasing the capacity of North Fork Reservoir and reconstructing the Boss Lake Reservoir emergency spillway, as well as assess the long term operation and maintenance requirements and future operational hydrology scenarios for all three reservoirs. The proposed expansion being analyzed for North Fork Reservoir could double the live storage capacity from 516 acre feed to 1024 acre feet, which would increase the surface acreage of the lake from 33 acres to 42 acres. To accommodate the additional storage, the dam height would be raised 15 feet.

The FS proposes that all three water storage facilities be analyzed under an ``all-inclusive'' Environmental Impact Statement (EIS) which addresses each facility individually.

Possible Alternatives

Other than the ``Proposed Action'' brought forward by UAWCD, and the ``No Action'' alternative, additional alternatives to this proposed project have not been identified at this time. Potential alternatives to the proposed action will undoubtedly surface during the internal and external scoping and public comment periods required during the NEPA process.

Lead and Cooperating Agencies

The USDA Forest Service will be the lead agency for this project, but will consult with other concerned local, state, and federal entities as appropriate. For example, Section 7 consultation with the U.S. Fish & Wildlife Service will be completed for the analysis area for Threatened and Endangered Species (TES).

Responsible Official

The responsible official is Robert J. Leaverton, PSICC Forest Supervisor, 2840 Kachina Drive, Pueblo, CO 81008.

Nature of Decision To Be Made

The responsible official will decide whether or not to allow for expansion of North Fork Reservoir, allow the reconstruction of the Boss Lake Reservoir emergency spillway, and approve the long term operation and maintenance requirements and future operational hydrology scenarios for all three reservoirs. The decision and rationale for the decision will be documented in the Record of Decision, which will be subject to Forest Service Appeal Regulations (36 CFR part 215).

Scoping Process

Internal FS scoping has already begun in the form of posting the project within the Schedule of Proposed Actions (SOPA), Interdisciplinary Team (IDT) meetings, conference calls, and FS specialist field reviews of various sites within the analysis area. External public scoping was initiated by way of listing the project within SOPA, posting a legal public notice in the Salida District's local newspaper, the Mountain Mail, on August 25, 2004, as well as radio announcements by the local Colorado Division of Wildlife (CDOW).

In addition to these preliminary forms of scoping, the FS plans on holding public meetings throughout various stages of this project to ensure that all relevant issues and concerns are brought to the attention of the agency before issuing the final decision. The times and locations of these meetings are yet to be determined.

Preliminary Issues

Some preliminary issues identified for this project include the following:

1. Expired long-term SUP's for all three facilities.

2. Appropriate discharge volumes needed to protect terrestrial and aquatic life and maintain stream channel stability below each reservoir while meeting UAWCD water rights and user demands.

3. Effects to the high-use scenic campground at North Fork and Boss Lake.

4. Unrestricted public access to each facility.

5. Effects to private landowners adjacent to North Fork and Boss Lake.

6. Impacts to sub-alpine wetland areas at North Fork, and effects to two rare plant species identified near the North Fork facility (moonwort, Botrychium spp).

Permits or Licenses Required

Each facility's term Special Use Permit (SUP) has expired. The FS feels that a thorough understanding of each facility's associated watershed and operational hydrology must be reached before term SUPs can be reissued to UAWCD. Temporary Special Use Permits have been issued to UAWCD to allow for the continued operation of the existing water storage facilities.

An Army Corps of Engineers 404 permit has been obtained by UAWCD in order to implement work that may be necessary within or adjacent to designated wetland areas around the North Fork facility. Additional 404 permits may be necessary at Boss Lake and North Fork prior to implementing any selected alternative.

Comment Requested

This Notice of Intent supports the scoping process which guides the development of the environmental impact statement.

Early Notice of Importance of Public Participation in Subsequent Environmental Review

A draft environmental impact statement will be prepared for public comment. The comment period on the draft environmental impact statement will be 45 days from the date the Environmental Protection Agency publishes the notice of availability in the local newspaper. The Forest Service believes, at this early stage, it is important to give reviewers notice of several court rulings related to public participation in the environmental review process.

First, reviewers of draft environmental impact statements must structure their participation in the environmental review of the proposal so that it is meaningful and alerts an agency to the reviewer's position and contentions (Vermont Yankee Nuclear Power Corp. v. NRDC, 435 U.S. 519,553 (1978)). Also, environmental objections that could be raised at the draft environmental impact statement stage, but are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)).

Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: March 12, 2007.
Robert J. Leaverton,
Forest Supervisor.

[FR Doc. 07-1286 Filed 3-15-07; 8:45 am]

BILLING CODE 3410-ES-M